DEPARTMENT OF COMMERCE

National Oceanic and Atmospheric Administration

[I.D. 111703G]

South Atlantic Fishery Management Council; Public Meetings

AGENCY: National Marine Fisheries Service (NMFS), National Oceanic and Atmospheric Administration (NOAA), Commerce.

ACTION: Notice of public meetings.

SUMMARY: The South Atlantic Fishery Management Council (Council) will hold a meeting of its Snapper Grouper Advisory Panel, a joint meeting of its Snapper Grouper Committee and Advisory Panel, Highly Migratory Species Committee, Mackerel Committee, Shrimp Committee, Information and Education Committee, and a joint meeting of its Executive Committee and Finance Committee. In addition, there will be a meeting of the full Council.

DATES: The meeting will be held in December 2003. See SUPPLEMENTARY INFORMATION for specific dates and times.

ADDRESSES: The meeting will be held at the Blockade Runner Beach Resort, 275 Waynick Blvd. Wrightsville Beach, NC 28480. Telephone: 1-800-541-1161 or 910-256-2251. Copies of documents are available from Kim Iverson, Public Information Officer, South Atlantic Fishery Management Council at 843-571-4366.

Council address: South Atlantic Fishery Management Council, One Southpark Circle, Suite 306, Charleston, SC 29407-4699.

FOR FURTHER INFORMATION CONTACT: Kim Iverson, Public Information Officer; telephone: 843-571-4366 or toll free at 866-SAFMC-10; fax: 843-769-4520; email: kim.iverson@safmc.net.

SUPPLEMENTARY INFORMATION:

Meeting Dates and Times

1. Snapper Grouper Advisory Panel Meeting: December 8, 2003, 8:30-12 noon

The Snapper Grouper Advisory Panel (AP) will receive an update on the Southeastern Data, Assessment and Review (SEDAR) process. The AP will receive an overview of Amendment 13B to the Snapper Grouper Fishery Management Plan (FMP) and discuss options.

2. Joint Snapper Grouper Committee and Advisory Panel Meeting: December 8, 2003, 1:30-5:30 p.m. and December 9, 2003, 8:30 a.m.-5:30 p.m.

The Snapper Grouper Committee and AP will receive a status report on the economic work on the Snapper Grouper Cost/Earnings Study, the black sea bass capacity report, a report on a North Carolina socioeconomic project, the North Carolina State observer study, a report on the latest bycatch log book results, and a presentation on the expanded electronic log book project. In addition, AP members will comment on the status of the snapper/grouper fishery in their area. The Committee and AP will also receive an overview of Amendment 13B to the Snapper Grouper Fishery Management Plan (FMP) and develop recommendations for the Council to consider. The Committee and AP will receive an overview of the public hearing document for Amendment 14 to the Snapper Grouper FMP and develop recommendations for the Council to consider. The Committee and AP will also develop comments on the Management Plan for Gray's Reef National Marine Sanctuary.

3. Highly Migratory Species Committee Meeting: December 10, 2003, 8:30-9:30 a.m.

The Highly Migratory Species Committee will receive a report on the November meeting of the International Commission for the Conservation of Atlantic Tuna (ICCAT) and the status of the bluefin tuna quota and harvest in North Carolina.

4. Mackerel Committee Meeting: December 10, 2003, 9:30-12 noon

The Mackerel Committee will receive an update on the SEDAR for mackerel, review the options paper for Amendment 15 to the Coastal Migratory Pelagics FMP, and develop alternatives for the Council to consider regarding the options paper.

5. Shrimp Committee Meeting: December 10, 2003, 1:30-5:30 p.m.

The Shrimp Committee will receive status reports from NOAA fisheries on the shrimp vessel observer program, the bycatch data collection plan and the shrimp business plan. In addition, the Committee will review the options paper for Amendment 6 to the Shrimp FMP and develop alternatives for the Council to consider.

6. Information and Education Committee, December 11, 2003, 8:30-10:30 a.m.

The Information and Education Committee will review the consensus recommendations from the joint Committee and AP meeting earlier this year. The Committee will review and develop recommendations regarding options for the Council's web site hosting and design. The Committee will also discuss outreach/education plans for the Oculina Experimental Closed Area and Habitat Area of Particular Concern off the coast of Florida.

7. Joint Executive Committee and Finance Committee Meeting: December 11, 2003, 10:30-12 noon and 1:30-2:30 p.m.

The Executive Committee will meet jointly with the Finance Committee and receive an update on the Calendar Year (CY) 2003 budget and the status of the Fiscal Year 2004 Congressional budget. The Committees will develop recommendations for CY 2004 Fishery Management Plan, Plan Amendment and Framework timelines and Activities Schedule. The Committees will also approve the CY 2004 budget and Operations Plan.

8. Council Session: December 11, 2003, 3-6 p.m.

3-3:15 p.m., the Council will have a Call to Order, introductions and roll call, adoption of the agenda, and approval of the October 2003 meeting minutes.

3:15-3:30 p.m., the Council will hear a report from the Highly Migratory Species Committee.

3:30-3:45 p.m., the Council will hear a report from the Mackerel Committee.

3:45-4 p.m., the Council will hear a report from the Joint Executive Committee and Finance Committee and approve the 2004 FMP/Amendment/Framework timelines and the 2004 administrative budget.

4-6 p.m., the Council will hear a report from the Snapper Grouper Committee. The Council will consider Committee recommendations and approve alternatives for Amendment 13B to the Snapper Grouper FMP. The Council will also consider Committee recommendations on the public hearing draft for the marine protected area (MPA) component of Amendment 14 to the Snapper Grouper FMP and approve the MPA component for the first round of public hearings in 2004.

9. Council Session: December 12, 2003, 8:30-12 noon

8:30-9:30 a.m., the Council will receive a briefing on litigation and other legal issues affecting the Council (CLOSED SESSION).

9:30-9:45 a.m., the Council will hear a report from the Information and Education Committee.

9:45-10:15 a.m., the Council will hear a report from the Shrimp Committee and approve options for inclusion in Amendment 6 to the Shrimp FMP.

10:15-10:30 a.m., the Council will hear a report on the Federal Fisheries Managers Conference held in Washington, DC in November 2003.

10:30-11 a.m., the Council will hear status reports from NOAA Fisheries (NMFS) regarding Snapper Grouper Amendment 13A and the proposed rule for the Amendment, the Dolphin/Wahoo FMP and final rule, implementation of the Atlantic Coast Cooperative Statistics Program in the Southeast Region, and hear landings reports regarding Atlantic king mackerel, Gulf king mackerel (eastern zone), Atlantic Spanish mackerel, snowy grouper, golden tilefish, wreckfish, greater amberjack, and south Atlantic ocotocorals.

11 a.m.-12 noon, the Council will hear agency and liaison reports, discuss other business and upcoming meetings.

Documents regarding these issues are available from the Council office (see ADDRESSES).

Although non-emergency issues not contained in this agenda may come before this Council for discussion, those issues may not be the subjects of formal Council action during this meeting. Council action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to the Council office (see ADDRESSES) by December 5, 2003.

Dated: November 18, 2003.
Richard W. Surdi,
Acting Director, Office of Sustainable Fisheries, National Marine Fisheries Service.

[FR Doc. E3-00388 Filed 11-21-03; 8:45 am]

BILLING CODE 6717-01-P